DEPARTMENT OF LABOR

Employment and Training Administration

[TA-W-57,267]

Texas Boot, Inc., Waynesboro, TN; Notice of Termination of Investigation

Pursuant to Section 221 of the Trade Act of 1974, as amended, an investigation was initiated on May 27, 2005 in response to a petition filed by a company official on behalf of workers at Texas Boot, Inc., Waynesboro, Tennessee.

The petitioning group of workers is covered by an earlier petition (TA-W-57, 221) filed on May 19, 2005 that is the subject of an ongoing investigation for which a determination has not yet been issued.

Further investigation in this case would serve no purpose and the investigation under this petition has been terminated.

Signed at Washington, DC, this 2nd day of June, 2005.
Linda G. Poole,
Certifying Officer, Division of Trade Adjustment Assistance.

[FR Doc. E5-3236 Filed 6-21-05; 8:45 am]

BILLING CODE 4510-30-P